SMALL BUSINESS ADMINISTRATION

[Declaration of Disaster #3500]

State of Alabama; (Amendment #1)

In accordance with a notice received from the Department of Homeland Security—Federal Emergency Management Agency, effective May 13, 2003, the above numbered declaration is hereby amended to include Barbour, Bullock, Chambers, Cherokee, Clay, Cleburne, Colbert, Coosa, Lauderdale, Lawrence, Lee, Limestone, Macon, Randolph, Russell and Tallapoosa Counties in the State of Alabama as disaster areas due to damages caused by severe storms, tornadoes, and flooding occurring on May 5, 2003 and continuing.

In addition, applications for economic injury loans from small businesses located in the contiguous counties of Dale, Elmore, Franklin, Henry, Montgomery and Pike in the State of Alabama; Carroll, Chatahoochee, Clay, Floyd, Haralson, Harris, Heard, Muscogee, Polk, Quitman, Stewart and Troup Counties in the State of Georgia; Tishomingo County in the State of Mississippi; and Giles, Hardin, Lawrence and Wayne Counties in the State of Tennessee may be filed until the specified date at the previously designated location. All other counties contiguous to the above named primary county have been previously declared.

The economic injury number assigned to Mississippi is 9V3400.

All other information remains the same, i.e., the deadline for filing applications for physical damage is July 11, 2003, and for economic injury the deadline is February 12, 2004.

(Catalog of Federal Domestic Assistance Program Nos. 59002 and 59008).
Dated: May 14, 2003.
Herbert L. Mitchell,
Associate Administrator for Disaster Assistance.

[FR Doc. 03-12701 Filed 5-20-03; 8:45 am]

BILLING CODE 8025-01-P